DEPARTMENT OF AGRICULTURE

Forest Service

Information Collection; Evaluating Community Knowledge, Beliefs, Attitudes, and Preferences Concerning Fire and Fuels Management in Southwestern Forest, Woodland and Grassland Ecosystems

AGENCY: Forest Service, USDA.

ACTION: Notice; request for comment.

SUMMARY: In accordance with the Paperwork Reduction Act of 1995, the Forest Service is seeking comments from all interested individuals and organizations on the extension with revision of a currently approved information collection, Evaluating Community Knowledge, Beliefs, Attitudes and Preferences Concerning Fire and Fuels Management in Southwestern Forest, Woodland and Grassland Ecosystems.

DATES: Comments must be received in writing on or before January 20, 2009 to be assured of consideration. Comments received after that date will be considered to the extent practicable.

ADDRESSES: Comments concerning this notice should be addressed to Dr. Carol Raish, USDA Forest Service, Rocky Mountain Research Station, 333 Broadway, SE., Suite 115, Albuquerque, New Mexico 87102-3497.

Comments also may be submitted via facsimile to 505-724-3688 or by e-mail to: craish@fs.fed.us. The public may inspect comments received at USDA Forest Service, Rocky Mountain Research Station, 333 Broadway, SE., Albuquerque, New Mexico 87102-3497, during normal business hours. Visitors are encouraged to call ahead to 505-724-3666 to facilitate entry to the building.

FOR FURTHER INFORMATION CONTACT: Dr. Carol Raish, 505-724-3666. Individuals who use telecommunication devices for the deaf (TDD) may call the Federal Relay Service (FRS) at 1-800-877-8339 twenty-four hours a day, every day of the year, including holidays.

SUPPLEMENTARY INFORMATION:

Title: Evaluating Community Knowledge, Beliefs, Attitudes and Preferences Concerning Fire and Fuels Management in Southwestern Forest, Woodland and Grassland Ecosystems.

OMB Number: 0596-0200.

Expiration Date of Approval: July 31, 2009.

Type of Request: Extension with revision.

Abstract: Increasingly, experts recommend fire as a fuels reduction tool on both public and private lands, though controversy often inhibits its use. Insufficient communication and understanding between land managers and the public frequently contribute to these difficulties. In order to design and implement successful, socially acceptable fire and fuels management policies and programs, managers need a better understanding of the public's knowledge, attitudes, and practices concerning wildfire. Phase I of this project collected information from members of the public residing in Arizona and New Mexico.

Phase I collected information using a mail survey of households located in Arizona and New Mexico. The response rate to the mailed questionnaires (n=2000) was 25.1 percent. The type of information collected included:

(1) Attitudes and preferences toward wildfire and fire management alternatives for public lands,

(2) Risk reduction behaviors that homeowners and individuals have undertaken to minimize wildfire risk, and

(3) Sources of information regarding wildfires and wildfire analyzed by researchers at the Rocky Mountain Research Station and cooperators.

Proponents now wish to renew this information collection and implement Phase II of the project, which will use the same questionnaire to collect data from regional experts in fire risk behavior and mitigation actions. The plan is to interview 50 experts individually or in small focus groups (5-7 participants). Interviews will last one hour per individual and two hours per focus group. Interviewers will emphasize sections A through E of the approved survey instrument of this information collection. These sections focus on wildfire risk-management options for reducing risks to homeowners, the effectiveness of each option, the responsibilities of the various parties for risk reduction actions, and the perceived knowledge of the homeowners regarding wildfire risks.

Estimates are that 60 percent of respondents will consist of State fire representatives from Arizona and New Mexico; local government fire officials at the county and city levels charged with implementing fire mitigation programs; and individual members of the private sector considered wildfire risk-mitigation experts. The remaining respondents (40 percent) will be Federal employees considered experts in this field: U.S. Forest Service in Region 3 (30 percent), and Bureau of Land Management and Bureau of Indian Affairs (10 percent). As the Paperwork Reduction Act does not regulate responses provided by Federal employees, this information collection request is for the portion of the study affecting non-Federal entities (State, county, and city officials, and individuals).

Researchers will compare results of the expert interviews with results of the previously conducted qualitative and quantitative interviews (Phase I). In addition, information from Phase II will assist in development of a more detailed survey instrument for future research. Future research will help statistically verify that there is or is not a statistically significant variation between the experts in wildfire management and homeowners in Region 3. Prior to implementing such a survey, proponents would return to OMB for approval.

This information collection provides information to decision makers, enhancing understanding of the similarities and differences between experts and the public concerning wildfire mitigation options and preferences in Arizona and New Mexico. This information will assist Forest Service land managers in their efforts to interact more effectively with the public and manage the risks associated with wildland fire. If managers do not have adequate information concerning public attitudes and actions concerning wildfire risk reduction behaviors (for example, creating defensible space on their properties by clearing brush and trees from a 30-foot area around the residence), then managers may not make well-informed decisions concerning appropriate communication techniques and needed public education information.

Estimate of Annual Burden: 2 hours.

Type of Respondents: Individuals.

Estimated Annual Number of Respondents: 30.

Estimated Annual Number of Responses per Respondent: One.

Estimated Total Annual Burden on Respondents: 60 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: November 17, 2008.
Ann Bartuska,
Deputy Chief, Research and Development.

[FR Doc. E8-27587 Filed 11-19-08; 8:45 am]

BILLING CODE 3410-11-P